CONSUMER PRODUCT SAFETY COMMISSION

Notification of Request for Extension of Approval of Information Collection Activity—Customer Satisfaction Surveys

AGENCY: Consumer Product Safety Commission.

ACTION: Notice.

SUMMARY: In the November 16, 2001 Federal Register (66 FR 57707), the Consumer Product Safety Commission published a notice in accordance with provisions of the Paperwork Reduction Act of 1995 (44 U.S.C. Chapter 35) to announce the agency's intention to seek extension of approval of 5 customer satisfaction surveys to determine the kind and quality of services CPSC customers want and customers' level of satisfaction with existing services. The Commission now announces that it has submitted to the Office of Management and Budget a request for extension of approval of that collection of information.

CPSC will use the information it obtains in these surveys to improve its work on behalf of the American public. In addition, the CPSC Office of Planning and Evaluation will use information from the surveys to prepare sections of the agency's annual performance report (required by the Government Performance and Results Act (GPRA)). This information will provide measures of the quality and effectiveness of agency efforts related to three goals in its strategic plan (informing the public, industry services, and customer satisfaction). In the past, information from these surveys has shown an overall high level of customer satisfaction. If this information is not periodically collected, we would not have useful measures of our effectiveness in reaching consumers and others, and the information necessary to guide program development and improvement would not be available. We would be unable to measure our ability to meet our identified GPRA goals.

CPSC will collect this information in several ways, such as using telephone interviews and mail questionnaires. Fewer than 5 customer surveys or information collection activities a year would be conducted using this clearance.

Additional Information About the Request for Extension of Approval of Information Collection Activity

Title of information collection: Customer Satisfaction Surveys: Fast track recall survey; ombudsman survey; state partner survey; hotline survey; and clearinghouse survey.

Type of request: Extension of approval.

Frequency of collection: Each survey will be conducted once during a 3-year period.

General description of respondents:

(1) Persons telephoning the Hotline; (2) persons or companies contacting the National Injury Information Clearinghouse for information; (3) State representatives who work with CPSC on cooperative programs; (4) firms using CPSC's Fast-Track Product Recall Program; and (5) small businesses that have contacted the CPSC's small business ombudsman.

Estimated Number of respondents: 501 per year.

Estimated average number of responses per respondent: One per year.

Estimated number of responses for all respondents: 501 per year.

Estimated number of hours per response: 3.5 minutes.

Estimated number of hours for all respondents: 29.2 per year.

Estimated cost of collection for all respondents: $608 per year.

Comments: Comments on this request for extension of approval of an information collection activity should be submitted by March 21, 2002 to (1) Office of Information and Regulatory Affairs, Attn: OMB Desk Officer for CPSC, Office of Management and Budget, Washington DC 20503; telephone: (202) 395-7340, and (2) the Office of the Secretary, Consumer Product Safety Commission, Washington, DC 20207. Comments may be delivered to the Office of the Secretary, room 502, 4330 East-West Highway, Bethesda, Maryland, 20814. Comments may also be sent to the Office of the Secretary by facsimile at (301) 504-0127, or by e-mail at cpsc-os@cpsc.gov.

Copies of this request for extension of approval of an information collection activity are available from Linda L. Glatz, Management & Program Analyst, Office of Planning and Evaluation, Consumer Product Safety Commission, Washington, DC 20207; telephone: (301) 504-0416, extension 2226.

Dated: February 13, 2002.
Todd Stevenson,
Secretary Consumer Product Safety Commission.

[FR Doc. 02-4000 Filed 2-15-02; 8:45 am]

BILLING CODE 6355-01-P